SECURITIES AND EXCHANGE COMMISSION

[File No. 500-1]

In the Matter of: Brendan Technologies, Inc., CenterStaging Corp., PGMI, Inc., Thermal Energy Storage, Inc., and Trinity3 Corporation; Order of Suspension of Trading

December 9, 2011.

It appears to the Securities and Exchange Commission that there is a lack of current and accurate information concerning the securities of Brendan Technologies, Inc. because it has not filed any periodic reports since the period ended March 31, 2008.

It appears to the Securities and Exchange Commission that there is a lack of current and accurate information concerning the securities of CenterStaging Corp. because it has not filed any periodic reports since the period ended September 30, 2007.

It appears to the Securities and Exchange Commission that there is a lack of current and accurate information concerning the securities of PGMI, Inc. because it has not filed any periodic reports since the period ended December 31, 2006.

It appears to the Securities and Exchange Commission that there is a lack of current and accurate information concerning the securities of Thermal Energy Storage, Inc. because it has not filed any periodic reports since the period ended March 31, 2005.

It appears to the Securities and Exchange Commission that there is a lack of current and accurate information concerning the securities of Trinity3 Corporation because it has not filed any periodic reports since the period ended September 30, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. EST on December 9, 2011, through 11:59 p.m. EST on December 22, 2011.

By the Commission.
Elizabeth M. Murphy,
Secretary.

[FR Doc. 2011-32031 Filed 12-9-11; 11:15 am]

BILLING CODE 8011-01-P